DEPARTMENT OF AGRICULTURE

Animal and Plant Health Inspection Service

9 CFR Part 94

[Docket No. APHIS-2006-0104]

Classical Swine Fever Status of the Mexican State of Nayarit

AGENCY: Animal and Plant Health Inspection Service, USDA.

ACTION: Final rule.

SUMMARY: We are amending the regulations for importing animals and animal products by adding the Mexican State of Nayarit to the list of regions considered free of classical swine fever (CSF). We are also adding Nayarit to the list of CSF-free regions whose exports of live swine, pork, and pork products to the United States must meet certain certification requirements to ensure their freedom from CSF. These actions relieve restrictions on the importation into the United States of pork, pork products, live swine, and swine semen from Nayarit while continuing to protect against the introduction of this disease into the United States.

DATES: Effective Date: June 18, 2007.

FOR FURTHER INFORMATION CONTACT: Dr. Chip Wells, Senior Staff Veterinarian, Regionalization Evaluation Services-Import, National Center for Import and Export, VS, APHIS, 4700 River Road Unit 38, Riverdale, MD 20737-1231; (301) 734-4356.

SUPPLEMENTARY INFORMATION:

Background

On January 31, 2007, we published in the Federal Register (72 FR 4463-4467, Docket No. APHIS-2006-0104) a proposal ¹ to amend the regulations for importing animals and animal products in 9 CFR part 94 by adding the Mexican State of Nayarit to the list of regions considered free of classical swine fever (CSF) in § 94.25, and adding Nayarit to the list of CSF-free regions in §§ 94.9 and 94.10 whose exports of live swine, pork, and pork products to the United States must meet certain certification requirements to ensure their freedom from CSF.

¹ To view the proposed rule, go to http://www.regulations.gov, click on the “Advanced Search” tab, and select “Docket Search.” In the Docket ID field, enter APHIS-2006-0104, then click “Submit.” Clicking on the Docket ID link in the search results page will produce a list of all documents in the docket.

On February 22, 2007, we published a document in the Federal Register (72 FR 7934, Docket No. APHIS-2006-0104) correcting two instances in the preamble of our proposed rule where we erroneously mentioned adding Nayarit to a list of CSF-affected regions, which we should have referred to as a list of CSF-free regions.

We solicited comments concerning our proposal for 60 days ending April 2, 2007. We did not receive any comments. Therefore, for the reasons given in the proposed rule, we are adopting the proposed rule as a final rule, without change.

Effective Date

This is a substantive rule that relieves restrictions and, pursuant to the provisions of 5 U.S.C. 553, may be made effective less than 30 days after publication in the Federal Register. This rule adds Nayarit to the lists of regions considered free of CSF and allows pork, pork products, live swine,² and swine semen to be imported into the United States from Nayarit, subject to certain conditions. We have determined that approximately 2 weeks are needed to ensure that Animal and Plant Health Inspection Service (APHIS) and Department of Homeland Security, Bureau of Customs and Border Protection, personnel at ports of entry receive official notice of this change in the regulations. Therefore, the Administrator of the Animal and Plant Health Inspection Service has determined that this rule should be effective 15 days after publication in the Federal Register.

² APHIS considers all of Mexico to be affected by blue-eye disease of pigs, a disease which is not known to exist in the United States. APHIS has not evaluated Mexico, including the State of Nayarit, for blue-eye disease. As a result, APHIS denies permits for the importation of live swine and swine semen from all of Mexico, including Nayarit (9 CFR 93.504(a)(3)). CSF is the disease hazard evaluated in the risk analysis, which does not address blue-eye disease.

Executive Order 12866 and Regulatory Flexibility Act

This rule has been reviewed under Executive Order 12866. For this action, the Office of Management and Budget has waived its review under Executive Order 12866.

This rule amends the regulations for importing animals and animal products by adding the Mexican State of Nayarit to the list of regions considered free of CSF. We are taking this action at the request of the Mexican Government and the State of Nayarit and after conducting a risk evaluation that indicates that Nayarit is free of this disease. We are also adding Nayarit to a list of CSF-free regions whose exports of live swine, pork, and pork products to the United States must meet certain certification requirements to ensure their freedom from CSF. These actions relieve certain CSF-related restrictions on the importation into the United States of pork, pork products, live swine, and swine semen from Nayarit while continuing to protect against the introduction of this disease into the United States.

This rule is likely to have a minimal effect on U.S. live swine markets, both in the short term and in the medium term. The hog inventory of Nayarit amounted to about four-tenths of 1 percent of U.S. hog and pig inventory in 2004.³ In 2004, there were 34 commercial swine farms in Nayarit with a population of 30,634 hogs and pigs. Another 18,650 hogs and pigs were reared in backyards, intended for consumption by the owners (table 1). Nayarit has never exported swine to the United States. This State—as is the case with Mexico as a whole—is a net importer of swine (table 2).

³ APHIS Risk Analysis on Importation of Classical Swine Fever (CSF) Virus from Nayarit, Mexico; Regional Evaluation Services, National Center for Import and Export, VS, APHIS, USDA; and USDA, FAS, GAIN Report # MX6010, Mexico, Livestock and Products, Semiannual Report 2006.

In 2004, the State of Nayarit produced around 4,000 metric tons of pork, an amount equal to 0.35 percent of Mexico's production of pork (table 3). Slaughter/processing plants handling swine in Nayarit are not federally inspected (TIF) establishments. Only TIF plants are allowed to ship pork and pork products abroad or to CSF-free States in Mexico.

Table 1.—Live Hogs in Nayarit, 2000-2004, and Mexico as a Whole, 2004
Nayarit | Hogs in commercial farms | Hogs in backyard operations | All hogs
2000 | 10,809 | 30,006 | 40,815
2001 | 36,799 | 29,587 | 66,386
2002 | 34,279 | 30,890 | 65,169
2003 | 36,665 | 25,010 | 61,675
2004 | 30,634 | 18,650 | 49,284
Mexico (2004) | 26,208,000 (pig crop + beginning stocks) in both commercial and backyard operations.
Source: SAGARPA; APHIS Risk Analysis on Importation of Classical Swine Fever (CSF) Virus from Nayarit, Mexico; Regional Evaluation Services, National Center for Import and Export, VS, APHIS, USDA; and Regionalization Evaluation Services (http://www.aphis.usda.gov/vs/ncie/reg-request.html), April 2006.

This rulemaking is also unlikely to have a significant effect on U.S. pork and pork products markets because, as with live swine, the United States is unlikely to import large amounts of these commodities from Nayarit. The United States is a net exporter of pork, while Mexico, as indicated below in tables 2 and 3, is a net importer. In 2004, Mexico exported 36,000 metric tons of pork, averaging only around 3.2 percent of total Mexican pork production.

Table 2.—U.S. and Mexican Trade With the World of Live Swine and Pork, 2004
Commodity | Exports | Imports | Net trade with the world
Live Swine (head):
Mexican swine | 0 | 189,867 | 189,867 (net imports).*
U.S. swine | 174,010 | 8,505,518 | 8,331,508 (net imports).
Pork (metric tons):
Mexican pork | 36,476 | 86,102 | 49,626 (net imports).
U.S. pork | 747,357 | 469,442 | 277,916 (net exports).
* Net imports = Imports minus exports; Net exports = Exports minus imports.
Source: USDA, FAS, UN Trade Statistics, 6-digit data.

Table 3.—Swine Production (Head) and Pork Production (Metric Tons) in United States and Mexico, 2004
United States: Swine | United States: Pork | Mexico: Swine | Mexico: Pork | Nayarit, MX: Swine | Nayarit, MX: Pork
60,000,000 | 9,302,759 | 15,350,000 | 1,150,000 | 49,000 | 4,080
Source: USDA, FAS, GAIN Report # MX6010, Mexico, Livestock and Products, Semiannual Report 2006.

Economic Impact on Small Entities

The Regulatory Flexibility Act requires that agencies consider the economic impact of their rules on small entities. The domestic entities most likely to be affected by declaring the Mexican State of Nayarit free of CSF are pork producers.

According to the 2002 Agricultural Census, there were about 66,036 hog and pig farms in the United States in that year, of which 93 percent received $750,000 or less in annual revenues. Agricultural operations with $750,000 or less in annual receipts are considered small entities, according to the Small Business Administration size criteria.

We do not expect that U.S. hog producers, U.S. exporters of live hogs, or U.S. exporters of pork and pork products, small or otherwise, will be affected significantly by this rule. This is because, for the reasons discussed above, the amount of live swine, pork, and other pork products imported into the United States from the Mexican State of Nayarit is likely to be small.

Under these circumstances, the Administrator of the Animal and Plant Health Inspection Service has determined that this action will not have a significant economic impact on a substantial number of small entities.

Executive Order 12988

This final rule has been reviewed under Executive Order 12988, Civil Justice Reform. This rule: (1) Preempts all State and local laws and regulations that are inconsistent with this rule; (2) has no retroactive effect; and (3) does not require administrative proceedings before parties may file suit in court challenging this rule.

National Environmental Policy Act

An environmental assessment and finding of no significant impact have been prepared for this final rule. The environmental assessment provides a basis for the conclusion that adding the Mexican State of Nayarit to the list of regions considered free of CSF, and to the list of CSF-free regions whose exports of live swine, pork, and pork products to the United States must meet certain certification requirements to ensure their freedom from CSF, will not have a significant impact on the quality of the human environment. Based on the finding of no significant impact, the Administrator of the Animal and Plant Health Inspection Service has determined that an environmental impact statement need not be prepared.

The environmental assessment and finding of no significant impact were prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

The environmental assessment and finding of no significant impact may be viewed on the Regulations.gov Web site.⁴ Copies of the environmental assessment and finding of no significant impact are also available for public inspection at USDA, room 1141, South Building, 14th Street and Independence Avenue, SW., Washington, DC, between 8 a.m. and 4:30 p.m., Monday through Friday, except holidays. Persons wishing to inspect copies are requested to call ahead on (202) 690-2817 to facilitate entry into the reading room. In addition, copies may be obtained by writing to the individual listed under FOR FURTHER INFORMATION CONTACT.

⁴ Go to http://www.regulations.gov, click on the “Advanced Search” tab and select “Docket Search.” In the Docket ID field, enter APHIS-2006-0104, click “Submit,” then click on the Docket ID link in the search results page. The environmental assessment and finding of no significant impact will appear in the resulting list of documents.

Paperwork Reduction Act

This final rule contains no new information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, FOWL PEST (FOWL PLAGUE), EXOTIC NEWCASTLE DISEASE, AFRICAN SWINE FEVER, CLASSICAL SWINE FEVER, AND BOVINE SPONGIFORM ENCEPHALOPATHY: PROHIBITED AND RESTRICTED IMPORTATIONS

1. The authority citation for part 94 continues to read as follows:

Authority: 7 U.S.C. 450, 7701-7772, 7781-7786, and 8301-8317; 21 U.S.C. 136 and 136a; 31 U.S.C. 9701; 7 CFR 2.22, 2.80, and 371.4.

§ 94.9 [Amended]

2. In § 94.9, paragraph (a) is amended by adding the word “Nayarit,” after the word “Chihuahua,”.

§ 94.10 [Amended]

3. In § 94.10, paragraph (a) is amended by adding the word “Nayarit,” after the word “Chihuahua,”.

§ 94.25 [Amended]

4. In § 94.25, paragraph (a) is amended by adding the word “Nayarit,” after the word “Chihuahua,”.

Done in Washington, DC, this 25th day of May 2007.
Kevin Shea,
Acting Administrator, Animal and Plant Health Inspection Service.

[FR Doc. E7-10641 Filed 5-31-07; 8:45 am]

BILLING CODE 3410-34-P